NUCLEAR REGULATORY COMMISSION

[Docket No. 50-254 and 50-265; NRC-2025-0027]

Constellation Energy Generation, LLC, Quad Cities Nuclear Power Station, Units 1 and 2; License Amendment Application; Withdrawal by Applicant

AGENCY: Nuclear Regulatory Commission.

ACTION: Notice.

SUMMARY: The U.S. Nuclear Regulatory Commission (NRC) is announcing the withdrawal of a license amendment application from Constellation Energy Generation, LLC (the licensee), dated November 4, 2024, for a proposed amendment to Quad Cities Nuclear Power Station, Units 1 and 2, License Nos. DPR-29 and DPR-30. The proposed amendment would have extended the Completion Time for Technical Specifications 3.6.4.3, “Standby Gas Treatment (SGT) System,” Required Action D.1 on a one-time basis to support repair of the SGT common discharge exhaust line.

DATES: This document was published in the Federal Register on February 18, 2025.

ADDRESSES: Please refer to Docket ID NRC-2025-0027 when contacting the NRC about the availability of information regarding this document. You may obtain publicly available information related to this document using any of the following methods:

• Federal Rulemaking Website: Go to https://www.regulations.gov and search for Docket ID NRC-2025-0027. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Robert F. Kuntz, Office of Nuclear Reactor Regulation, U.S. Nuclear Regulatory Commission, Washington, DC 20555-0001; telephone: 301-415-3733; email: Robert.Kuntz@nrc.gov.

SUPPLEMENTARY INFORMATION:

I. Discussion

On November 4, 2024, the licensee submitted a request to amend licenses DPR-29 and DPR-30 for the Quad Cities Nuclear Power Station, Units 1 and 2, located in Rock Island County, Illinois (ADAMS Accession No. ML24309A271). Notice of this request was published in the Federal Register on February 18, 2025 (90 FR 9739). The requested amendments proposed to extend the Completion Time for Technical Specifications 3.6.4.3, “Standby Gas Treatment (SGT) System,” Required Action D.1 on a one-time basis to support repair of the SGT common discharge exhaust line. By letter dated April 17, 2025, the licensee withdrew its application and stated it is no longer seeking review and approval of its November 4, 2024 request (ML25107A270).

Dated: May 12, 2025.
For the Nuclear Regulatory Commission.
Robert Kuntz,
Senior Project Manager, Plant Licensing Branch III, Division of Operating Reactor Licensing, Office of Nuclear Reactor Regulation.

[FR Doc. 2025-08624 Filed 5-14-25; 8:45 am]

BILLING CODE 7590-01-P